DEPARTMENT OF HEALTH AND HUMAN SERVICES

Health Resources and Services Administration

Agency Information Collection Activities: Proposed Collection: Public Comment Request Information Collection Request Title: Ryan White HIV/AIDS Program: Allocation and Expenditure Forms, OMB No. 0915-0318—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 13, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Ryan White HIV/AIDS Program: Allocation and Expenditure Forms, OMB No. 0915-0318—Revision

Abstract: HRSA's HIV/AIDS Bureau administers the Ryan White HIV/AIDS Program (RWHAP) authorized under Title XXVI of the Public Health Service Act as amended by the Ryan White HIV/AIDS Treatment Extension Act of 2009. RWHAP Allocation and Expenditure Reports (A&E Reports), in conjunction with the Consolidated List of Contractors (CLC), allow HRSA to monitor and track the use of grant funds for compliance with program and grants policies and requirements as outlined in the 2009 legislation. To avoid duplication and reduce recipient reporting burden, HRSA created an electronic grantee contract management system (GCMS) that includes data required for various reports, including the Allocations Reports, the CLC, and other HRSA data reports, such as the RWHAP Services Report. Recipients can access GCMS year-round to upload or manually enter data on their service provider contractors or subrecipients, the RWHAP core medical and support services provided, and their funding amounts. GCMS automatically repopulates the data required for Allocations Reports and other reports. Expenditures Report data are not auto-populated in the GCMS, and are thus still manually reported in the data reporting system.

Allocations and Expenditures (A&E) Reports

Recipients funded under RWHAP Parts A, B, C, and D are required to report financial data to HRSA at the beginning (Allocations Report) and at the end of their grant budget period (Expenditures Report). The A&E Reports request information recipients already collect, including the use of RWHAP grant funds for core medical and support services and for various program components, such as administration, planning and evaluation, and clinical quality management. The reports are identical in content; however, in the first report recipients document the allocation of their RWHAP grant award at the beginning of their grant budget period, and in the second report recipients document actual expenditures of their RWHAP grant award (including any carryover dollars) at the end of their grant budget period.

HRSA is proposing several modifications to the A&E Reports. Recipients would be required to report program income and pharmaceutical rebate amounts in the Expenditures Report in addition to grant award (including any carryover) amounts. This addition allows HRSA to understand the full scope and impact of the RWHAP on state and local levels. Program income and pharmaceutical rebate expenditures should already be tracked by recipients and should not increase reporting burden. RWHAP Parts A and B recipients funded under the Ending the HIV Epidemic Initiative (EHE)—a new funding source to implement four key strategies (diagnose, treat, prevent, and respond) to end the HIV epidemic—would be required to report EHE service allocations and corresponding EHE award expenditures in the A&E Reports.¹ This addition allows HRSA to track and report progress toward meeting the EHE goals.

¹ OMB granted HRSA approval to collect these data under OMB Control Number 0915-0318, ICR Reference Number 201909-0915-004.

In addition to these substantive modifications, minor changes are proposed to (1) the layout of the A&E Reports that affects how already required data is reported; (2) align service categories with HRSA Policy Clarification Notice #16-02: RWHAP Services: Eligible Individuals & Allowable Uses of Funds, updated October 22, 2019; and (3) add clarity to language used.

Consolidated List of Contractors

Recipients funded under RWHAP Parts A and B are required to report information about their service provider contracts or sub awards in the CLC, a report that is generated from data entered through other systems. The CLC form identifies a recipient's contracts with service providers for the current grant year, the contract amount, the types of services the service provider provided, and the service provider's status as a minority or faith-based provider. HRSA is not proposing any changes to the CLC.

Need and Proposed Use of the Information: Accurate allocation, expenditure, and service contract records of the recipients receiving RWHAP funding are critical to the implementation of the RWHAP legislation and thus are necessary for HRSA to fulfill its monitoring and oversight responsibilities.

The primary purposes of these forms are to provide information on the number of grant dollars spent on various services and program components and oversee compliance with the intent of Congressional appropriations in a timely manner. In addition to meeting the goal of accountability to Congress, RWHAP clients, advocacy groups, and the general public, information collected through these reports is critical for HRSA, state, and local grant recipients, and individual providers to evaluate the effectiveness of the RWHAP. The addition of program income, pharmaceutical rebates, and EHE funding to the A&E Reports will allow HRSA the ability to assess progress toward meeting the national goals for ending the HIV epidemic.

Likely Respondents: RWHAP Part A, Part B, Part C, and Part D recipients

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A Allocations Report | 52 | 1 | 52 | 4 | 208
Part A Expenditures Report | 52 | 1 | 52 | 4 | 208
Part A CLC | 52 | 1 | 52 | 2 | 104
Part B Allocations Report | 54 | 1 | 54 | 6 | 324
Part B Expenditures Report | 54 | 1 | 54 | 6 | 324
Part B CLC | 54 | 1 | 54 | 2 | 108
Part C Allocations Report | 346 | 1 | 346 | 4 | 1,384
Part C Expenditures Report | 346 | 1 | 346 | 4 | 1,384
Part D Allocations Report | 116 | 1 | 116 | 4 | 464
Part D Expenditures Report | 116 | 1 | 116 | 4 | 464
EHE Allocations Reports | 47 | 1 | 47 | 4 | 188
EHE Expenditures Reports | 47 | 1 | 47 | 4 | 188
Total | 1,336 |  | 1,336 |  | 5,348

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2020-02657 Filed 2-10-20; 8:45 am]

BILLING CODE 4165-15-P